DEPARTMENT OF COMMERCE

National Oceanic and Atmospheric Administration

Notice of Request for Information; U.S. Global Change Research Program (USGCRP)

AGENCY: Office of Oceanic and Atmospheric Research (OAR), National Oceanic and Atmospheric Administration (NOAA), Department of Commerce (DOC).

ACTION: Notice of request for information from the public on the structure, topics and content of an updated Climate Literacy Guide.

SUMMARY: The United States Global Change Research Program (USGCRP) requests input from the public to guide an update of the 2009 “Climate Literacy: Essential Principles of Climate Science”. This request for information (RFI) will inform USGCRP as it updates the Guide to include current climate and social science, and a focus on justice and capacity to implement solutions.

DATES: Comments should be submitted via https://contribute.globalchange.gov and must be received by May 31, 2023.

ADDRESSES: “Climate Literacy: The Essential Principles of Climate Science” can be accessed at https://www.globalchange.gov/browse/reports/climate-literacy-essential-principles-climate-science-high-resolution-booklet and also through the USGCRP Open Notices Page (https://www.globalchange.gov/notices).

Instructions: To submit comments, respondents will need to register in the Public Contribution system. Comments may be submitted only via this online mechanism. Registration details can be found on the https://contribute.globalchange.gov home page, and review instructions are accessible once a registered user has logged into the system. All comments received through this process will be considered by the updated guide's authors without knowledge of the commenters' identities. No information submitted by a commenter as part of the registration process (such as an email address) will be disclosed publicly. Comments will be considered by USGCRP in the development of updated guidance.

Response to this RFI is voluntary. Respondents need not reply to all questions listed. Each individual or institution is requested to submit only one response. Please identify your answers by responding to a specific question or topic. Respondents may answer as many or as few questions as they wish. Comments of seven pages or fewer (3,500 words or equivalent) are strongly recommended. Links to resources, images, and videos may be submitted for consideration.

USGCRP seeks to create a Climate Literacy Guide that is broadly relevant and provides useful information to all people living or residing in the United States. In that spirit, we encourage all members of the public who are interested in this initiative to submit their comments. Those interested may include any member of the public of any age, culture, background, level of education or career stage. There may also be interested organizations, such as Tribal Nations or Indigenous Peoples, scientific research or practitioner organizations, any state, local or territorial governments, any non-profit organizations, any private companies, any philanthropic organizations, and any others. USGCRP is interested in personal narrative and experience; Indigenous Knowledge; local knowledge and lived experience; and technical, legal, and scientific content or research from any discipline. Comments from active or past users of the 2009 version of the guide, from the education and related sectors, from workforce development organizations, and from environmental justice communities are particularly welcome.

This RFI is not accepting applications for financial assistance or financial incentives. Comments submitted in response to this notice are subject to the Freedom of Information Act (FOIA). Responses to this RFI may be posted without change online. USGCRP therefore requests that no proprietary information, copyrighted information, or personally identifiable information be submitted in response to this RFI. Please note that the United States Government will not pay for response preparation, or for the use of any information contained in a response. In accordance with FAR 15-202(3), responses to this notice are not offers and cannot be accepted by the U.S. Government to form a binding contract.

FOR FURTHER INFORMATION CONTACT: Haley Crim, haley.crim@noaa.gov; Phone Number: (301) 734-1200, NOAA Office of Oceanic and Atmospheric Research, Climate Program Office Communication, Education, and Engagement Division.

SUPPLEMENTARY INFORMATION: “Climate Literacy: The Essential Principles of Climate Science” was released in 2009 as part of USGCRP's mission to provide authoritative science and resources to help people and organizations across the country manage risks and respond to changing environmental conditions. This document has informed educators, policymakers, and scientists for over a decade across the United States and internationally.

An interagency team is working to create an updated version of “Climate Literacy: Essential Principles of Climate Science” based on the 2009 Guide. The intention of the update is to ensure the Guide reflects current climate science, engagement, and education methods and includes a focus on informed climate decisions. Feedback is solicited on the following questions:

1. How should the updated document be structured?

2. What topics should be included?

3. How should topics be weighted and ordered within the document?

4. Are there pieces that are missing from the 2009 Guide?

5. Are there pieces of the 2009 Guide that aren't relevant anymore?

6. What audiences do you think should use the guide?

7. How do you see yourself or your community using this guide?

Specific dates and locations for all public engagement during development and upon final release will be provided on www.globalchange.gov/notices as they are determined. Members of the public may also sign up to receive updates through USGCRP's bimonthly newsletter at www.globalchange.gov/newsletter-signup.

The U.S. Global Change Research Program (USGCRP) intends to release the updated guide at the end of 2023.

The USGCRP is a federal program mandated by Congress to coordinate federal research and investments in understanding the forces shaping the global environment, both human and natural, their impacts on society, and inform responses at local to international scales.

David Holst,
Chief Financial Officer/Administrative Officer, Office of Oceanic and Atmospheric Research, National Oceanic and Atmospheric Administration.

[FR Doc. 2023-05322 Filed 3-14-23; 8:45 am]

BILLING CODE 3510-KD-P